COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products and services to the Procurement List that will be furnished by nonprofit agencies employing persons who are blind or have other severe disabilities, and deletes products and services from the Procurement List previously furnished by such agencies.

DATES: Effective Date: 9/21/2015.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 5/15/2015 (80 FR 27929-27930), 6/5/2015 (80 FR 32096-32097), 6/19/2015 (80 FR 35320-35321), 6/26/2015 (80 FR 36773-36774), and 7/10/2015 (80 FR 39759-39760), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN(s)—Product Name(s)

5120-00-NIB-0120—Wrench, Combination, Chrome, 12 Pt, 1/4″

5120-00-NIB-0121—Wrench, Combination, Chrome, 12 Pt, 5/16″

5120-00-NIB-0122—Wrench, Combination, Chrome, 12 Pt, 11/32″;

5120-00-NIB-0123—Wrench, Combination, Chrome, 12 Pt, 3/8″;

5120-00-NIB-0124—Wrench, Combination, Chrome, 12 Pt, 7/16″;

5120-00-NIB-0125—Wrench, Combination, Chrome, 12 Pt, 1/2″

5120-00-NIB-0126—Wrench, Combination, Chrome, 12 Pt, 9/16″

5120-00-NIB-0127—Wrench, Combination, Chrome, 12 Pt, 5/8″

5120-00-NIB-0128—Wrench, Combination, Chrome, 12 Pt, 11/16″

5120-00-NIB-0129—Wrench, Combination, Chrome, 12 Pt, 3/4″

5120-00-NIB-0130—Wrench, Combination, Chrome, 12 Pt, 13/16″

5120-00-NIB-0131—Wrench, Combination, Chrome, 12 Pt, 7/8″

5120-00-NIB-0132—Wrench, Combination, Chrome, 12 Pt, 15/16″

5120-00-NIB-0133—Wrench, Combination, Chrome, 12 Pt, 1″

5120-00-NIB-0139—Wrench Set, Combination, Chrome, 12pt, 3/8″-1″

5120-00-NIB-0147—Wrench, Combination, Chrome, 12 Pt, 10MM

5120-00-NIB-0148—Wrench, Combination, Chrome, 12 Pt, 11MM

5120-00-NIB-0149—Wrench, Combination, Chrome, 12 Pt, 12MM

5120-00-NIB-0150—Wrench, Combination, Chrome, 12 Pt, 13MM

5120-00-NIB-0151—Wrench, Combination, Chrome, 12 Pt, 14MM

5120-00-NIB-0152—Wrench, Combination, Chrome, 12 Pt, 15MM

5120-00-NIB-0153—Wrench, Combination, Chrome, 12 Pt, 16MM

5120-00-NIB-0154—Wrench, Combination, Chrome, 12 Pt, 17MM

5120-00-NIB-0155—Wrench, Combination, Chrome, 12 Pt, 18MM

5120-00-NIB-0156—Wrench, Combination, Chrome, 12 Pt, 19MM

5120-00-NIB-0157—Wrench Set, Combination, Chrome, 12pt, 10MM-19MM

Mandatory Source of Supply: Industries for the Blind, Inc., West Allis, WI

Mandatory Purchase For: Broad Government Requirement

Contracting Activity: General Services Administration, Kansas City, MO

Distribution: B-List

NSN(s)—Product Name(s):

8940-01-E62-4753—Gravy Mix, Brown, 8/12 oz. Containers

8940-01-E62-4754—Gravy Mix, Chicken, 8/12 oz. Containers

8940-01-E62-4755—Gravy Mix, Brown, Low Sodium, 8/12 oz. Containers

8940-01-E62-4756—Gravy Mix, Country, 8/20 oz. Containers

8940-01-E62-4757—Gravy Mix, Turkey, 8/12 oz. Containers

8940-01-E62-4758—Gravy Mix, Chicken, Low Sodium, 8/12 oz. Containers

Mandatory Source of Supply: CW Resources, Inc., New Britain, CT

Mandatory Purchase For: 100% of the requirement of the Department of Defense

Contracting Activity: Defense Logistics Agency Troop Support, Philadelphia, PA

Distribution: C-List

NSN(s)—Product Name(s): 8920-00-SAM-0169—Super Cereal Plus

Mandatory Source of Supply: Transylvania Vocational Services, Inc., Brevard, NC

Mandatory Purchase For: 20% of the tendered requirement up to 500 Metric Tons per tender for the U.S. Agency for International Development's World Food Program

Contracting Activity: USDA Farm Service Agency Agricultural Stabilization and Conservation Service, Kansas City, MO

Distribution: C-List

NSN(s)—Product Name(s): 1730-01-516-4899—Wheel Chock, Plastic, 14″

1730-01-516-4900—Wheel Chock, Plastic, 20″

Mandatory Source of Supply: NewView Oklahoma, Inc., Oklahoma City, OK

Mandatory Purchase For: 100% of the requirement of the Department of Defense

Contracting Activity: Defense Logistics Agency Troop Support, Philadelphia, PA

Distribution: C-List

Services

Service Type: Third Party Logistics Service

Service is Mandatory For: US Department of State, Arlington, VA

Mandatory Source of Supply: Human Technologies Corporation, Utica, NY

Contracting Activity: State, Department of, Office of Acquisition Mgmt—MA, Arlington, VA

Service Type: Custodial Service

Service is Mandatory For: US Marine Corps, Marine Corps Base Camp Lejeune, NC

Mandatory Source of Supply: Coastal Enterprises of Jacksonville, Inc., Jacksonville, NC

Contracting Activity: Dept of the Navy, Commanding General Camp Lejeune, NC

Service Type: Document Destruction Service

Service is Mandatory For: Department of Veterans Affairs, Veterans Integrated Service Network 10, Kettering, OH

Mandatory Source of Supply: Greene, Inc., Xenia, OH

Contracting Activity: Veterans Affairs, Department of, 552-Dayton, Dayton, OH

Service Type: Janitorial Service

Service is Mandatory For: US Coast Guard, Transformation Warehouse, 1873 Eringhaus Street, Elizabeth City, NC

Mandatory Source of Supply: Skills, Inc., Elizabeth City, NC

Contracting Activity: U.S. Coast Guard, Aviation Logistics Center (ALC), Elizabeth City, NC

Deletions

On 7/10/2015 (80 FR 39759-39760), and 7/17/2015 (80 FR 42481-42483), the Committee for Purchase From People Who Are Blind or Severely Disabled published notices of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

NSN(s)—Product Name(s): 7530-01-072-2533—Paper, Mimeograph and Duplicating

Mandatory Source of Supply: Louisiana Association for the Blind, Shreveport, LA

Contracting Activity: General Services Administration, New York, NY

NSN(s)—Product Name(s):

7510-01-587-3931—Refill, Pencil Lead, Bio-Based and Biodegradable Pencil

7520-01-587-3932—Pencil, Mechanical, Bio-Based and Biodegradable

7520-01-587-3933—Pencil, Mechanical, Bio-Based and Biodegradable

7520-01-587-3934—Pencil, Mechanical, Bio-Based and Biodegradable

7520-01-587-3935—Pencil, Mechanical, Bio-Based and Biodegradable

7510-01-587-3936—Refill, Pencil Lead, Bio-Based and Biodegradable Pencil

Mandatory Source of Supply: San Antonio Lighthouse for the Blind, San Antonio, TX

Contracting Activity: General Services Administration, New York, NY

NSN(s)—Product Name(s): 7530-00-160-8476—Index Sheet Sets, Alphabetical, 9 1/2″ x 6″, Buff

Mandatory Source of Supply: Easter Seals Western and Central Pennsylvania, Pittsburgh, PA

Contracting Activity: General Services Administration, New York, NY

Service

Service Type: Food Service Attendant Service

Service Mandatory For: United States Military Academy: Enlisted Dining Facility and Summer Camp Enlisted Dining Facility—Bldg 620 Knox Road, West Point, NY

Mandatory Source of Supply: New Dynamics Corporation, Middletown, NY

Contracting Activity: Dept of the Army, W40M Northern Region Contract Office, Fort Belvoir, VA

Barry S. Lineback,
Director, Business Operations.

[FR Doc. 2015-20732 Filed 8-20-15; 8:45 am]

BILLING CODE 6353-01-P